DEPARTMENT OF ENERGY

Federal Energy Regulatory Commission

[Project No. 3063-021]

Blackstone Hydro Associates; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 3063-021.

c. Date filed: July 31, 2019.

d. Applicant: Blackstone Hydro Associates (BHA).

e. Name of Project: Central Falls Hydroelectric Project.

f. Location: On the Blackstone River, in the City of Central Falls, Providence County, Rhode Island. No federal lands are occupied by the project works or located within the project boundary.

g. Filed Pursuant to: Federal Power Act 16 U.S.C. 791(a)-825(r).

h. Applicant Contact: Mr. Robert Leahy, 130 Prospect Street, Cambridge, MA 02139; Phone at (617) 491-2320, or email at rleahy@theshorelinecorp.com.

i. FERC Contact: John Baummer, (202) 502-6837 or john.baummer@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis at this time.

l. Project Description: The existing Central Falls Project consists of: (1) A 190-foot-long, 24-foot-high, curved granite-masonry dam (Valley Falls Dam); (2) an approximately 64.5-acre impoundment with a normal maximum elevation of 49.5 feet National Geodetic Vertical Datum of 1929; (3) a granite block and wood-framed gatehouse that is adjacent to the dam and that contains ten gates that are 9 feet wide by 6 feet tall; (4) a 290-foot-long, granite block-lined headrace; (5) an intake structure with two 8-foot-high hydraulic gates and 24-foot-wide, 11.5-foot-high, inclined trashracks having 3-inch clear bar spacing; (6) two 30-foot-long, 7-foot-diameter penstocks; (7) an approximately 53-foot-long, 32-foot-wide concrete powerhouse containing two Allis-Chalmers tube turbines with a total installed capacity of 700 kilowatts (kW); (8) an approximately 1,200-foot-long, 36-foot-wide tailrace; (9) two 55-foot-long, 480-volt generator lead lines; and (10) appurtenant facilities.

BHA operates the project as a run-of-river facility, such that outflow from the project approximates inflow. The project bypasses approximately 0.3 mile of the Blackstone River. A 108-cubic feet per second (cfs) minimum flow is released over the dam into the bypassed reach. BHA discharges a continuous minimum flow of 238 cfs, or inflow, whichever is less, as measured at the confluence of the tailrace and the river channel. The average annual generation of the project is approximately 1,230 megawatt-hours (MWh).

BHA proposes to: (1) Continue operating the project in a run-of-river mode; (2) retrofit the two existing turbines with variable pitch blade runners to allow for the project to be operated at different flows; (3) install a new bypassed flow pipe to provide a minimum flow of 210 cfs to the bypassed reach, approximately 215 feet downstream of the dam; (4) install a new 160-kW Natel Energy turbine-generator unit in the proposed bypassed flow pipe to increase the project's capacity and provide downstream fish passage; (5) install a new trashrack with 1-inch clear bar spacing in the headrace to prevent fish impingement and entrainment; (6) install a new downstream fish passage facility in the headrace, immediately upstream of the new trashrack; (7) maintain a 13-cfs aesthetic flow over the Valley Falls Dam; (8) provide a flow of up to 3 cfs to the adjacent historic canal; (9) install an upstream eel passage facility at the project dam; and (10) install 20 long-eared bat boxes and implement a Northern Long Eared Bat Management and Protection Plan to protect bats. BHA estimates the project enhancements will result in an average annual generation of approximately 3,200 MWh.

m. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-3063). At this time, the Commission has suspended access to the Commission's Public Reference Room due to the proclamation declaring a National Emergency concerning the Novel Coronavirus Disease (COVID-19) issued by the President on March 13, 2020. For assistance, contact FERC at FERCOnlineSupport@ferc.gov or call toll-free, (886) 208-3673 or (202) 502-8659 (TTY).

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

p. Procedural Schedule: The application will be processed according to the following schedule. Revisions to the schedule will be made as appropriate.

Milestone | Target date
Filing of interventions, protests, comments, recommendations, preliminary terms and conditions, and preliminary fishway prescriptions | June 2020.
Commission issues Environmental Assessment | November 2020.
Comments on Environmental Assessment | December 2020.

Final amendments to the application must be filed with the Commission no later than 30 days from the issuance date of this notice.

Dated: April 29, 2020.
Kimberly D. Bose,
Secretary.

[FR Doc. 2020-09564 Filed 5-4-20; 8:45 am]

BILLING CODE 6717-01-P